FEDERAL MINE SAFETY AND HEALTH REVIEW COMMISSION

Sunshine Act Meeting

October 19, 2007.

Time and Date: 10 a.m., Thursday, November 1, 2007.

Place: The Richard V. Backley Hearing Room, 9th Floor, 601 New Jersey Avenue, NW., Washington, DC

Status: Open.

Matters to be Considered: The Commission will consider and act upon the following in open session: Secretary of Labor v. Emerald Coal Resources, LP, Docket No. PENN 2007-251-E, and Secretary of Labor v. Cumberland Coal Resources, LP, Docket No. PENN 2007-252-E. (Issues include whether the Administrative Law Judge erred in upholding the Secretary's decision to require that the operators' Emergency Response Plans (ERPs) contain provisions mandating that the operators provide purchase orders for rescue chambers.)

The Commission heard oral argument in these matters on October 23, 2007.

Any person attending this meeting who requires special accessibility features and/or auxiliary aids, such as sign language interpreters, must inform the Commission in advance of those needs. Subject to 29 CFR 2706.150(a)(3) and 2706.160(d).

FOR FURTHER INFORMATION CONTACT: Jean Ellen, (202) 434-9950/(202) 708-9300 for TDD Relay/1-800-877-8339 for toll free.

Jean H. Ellen,
Chief Docket Clerk.

[FR Doc. 07-5410 Filed 10-26-07; 1:33 pm]

BILLING CODE 6735-01-M